INTERNATIONAL TRADE COMMISSION

[Investigations Nos. 701-TA-402 and 731-TA-892-893 (Preliminary)]

Honey From Argentina and China

Determinations

On the basis of the record ¹ developed in the subject investigations, the United States International Trade Commission determines, pursuant to section 733(a) of the Tariff Act of 1930 (19 U.S.C. 1673b(a)), that there is a reasonable indication that an industry in the United States is materially injured by reason of imports from Argentina and China of honey, provided for in subheadings 0409.00.00, 1702.90.90, and 2106.90.99 of the Harmonized Tariff Schedule of the United States, that are alleged to be sold in the United States at less than fair value (LTFV). The United States International Trade Commission also determines, pursuant to section 703(a) of the Tariff Act of 1930 (19 U.S.C. § 1671b(a)), that there is a reasonable indication that an industry in the United States is materially injured by reason of imports from Argentina of honey that are alleged to be subsidized by the Government of Argentina.

Commencement of Final Phase Investigation

Pursuant to section 207.18 of the Commission's rules, the Commission also gives notice of the commencement of the final phase of its investigations. The Commission will issue a final phase notice of scheduling which will be published in the Federal Register as provided in § 207.21 of the Commission's rules upon notice from the Department of Commerce (Commerce) of affirmative preliminary determinations in the investigations under sections 703(b) and 733(b) of the Act, or, if the preliminary determinations are negative, upon notice of affirmative final determinations in those investigations under sections 705(a) and 735(a) of the Act. Parties that filed entries of appearance in the preliminary phase of the investigations need not enter a separate appearance for the final phase of the investigations. Industrial users, and, if the merchandise under investigation is sold at the retail level, representative consumer organizations have the right to appear as parties in Commission antidumping and countervailing duty investigations. The Secretary will prepare a public service list containing the names and addresses of all persons, or their representatives, who are parties to the investigations.

¹ The record is defined in § 207.2(f) of the Commission's rules of practice and procedure (19 CFR § 207.2(f)).

Background

On September 29, 2000, a petition was filed with the Commission and the Department of Commerce by the American Honey Producers Association (AHPA), Bruce, South Dakota, and the Sioux Honey Association (SHA), Sioux City, Iowa, alleging that an industry in the United States is materially injured or threatened with material injury by reason of LTFV imports of honey from Argentina and China and by reason of subsidized imports of honey from Argentina. Accordingly, effective September 29, 2000, the Commission instituted countervailing duty investigation No. 701-TA-402 (Preliminary) and antidumping duty investigations No. 731-TA-892-893 (Preliminary).

Notice of the institution of the Commission's investigations and of a public conference to be held in connection therewith was given by posting copies of the notice in the Office of the Secretary, U.S. International Trade Commission, Washington, DC, and by publishing the notice in the Federal Register of October 6, 2000 (65 FR 59871, October 6, 2000). The conference was held in Washington, DC, on October 20, 2000, and all persons who requested the opportunity were permitted to appear in person or by counsel.

The Commission transmitted its determinations in these investigations to the Secretary of Commerce on November 13, 2000. The views of the Commission are contained in USITC Publication 3369 (November 2000) entitled Honey from Argentina and China: Investigations Nos. 701-TA-402 and 731-TA-892-893 (Preliminary).

Issued: November 13, 2000.
By order of the Commission.
Donna R. Koehnke,
Secretary.

[FR Doc. 00-29513 Filed 11-16-00; 8:45 am]

BILLING CODE 7020-02-P